DEPARTMENT OF DEFENSE

Department of the Air Force HQ USAF Scientific Advisory Board

AGENCY: Department of the Air Force, DoD.

ACTION: Notice of Meeting.

SUMMARY: Pursuant to Public Law 92-463, notice is hereby given of the forthcoming meeting of the Study on Time Critical Targets. The purpose of the meeting is to allow the SAB and study leadership to meet with the leadership of AFRL's Directed Energy Division to discuss directed energy programs. The meeting will be closed under the provisions of Section 552b of Title 5, United States Code, because of the discussion of classified and contractor-proprietary information.

DATES: 3 May 2002.

ADDRESSES: Building 405, Air Force Research Laboratory, Kirtland, AFB NM 87117.

FOR FURTHER INFORMATION CONTACT: Mr. Robert Ripperger, Air Force Scientific Advisory Board Secretariat, 1180 Air Force Pentagon, Rm 5D982, Washington DC 20330-1180, (703) 697-4811.

Pamela D. Fitzgerald,
Air Force Federal Register Liaison Officer.

[FR Doc. 02-10823 Filed 5-1-02; 8:45 am]

BILLING CODE 5001-05-U